DEPARTMENT OF COMMERCE

National Oceanic and Atmospheric Administration

Notice of Public Listening Sessions of the Office of Science Support (OSS)

AGENCY: Office of Oceanic and Atmospheric Research (OAR), National Oceanic and Atmospheric Administration (NOAA), Department of Commerce (DOC).

ACTION: Notice of public listening sessions.

SUMMARY: The National Oceanic and Atmospheric Administration is organizing three virtual listening sessions to garner public comments on a draft research strategy documenting a Potential NOAA Carbon Dioxide Removal (CDR) Science Strategy as an element of NOAA's Climate Mitigation Portfolio. Perspective gathered during the virtual listening sessions will inform the finalization of this strategy.

DATES: Virtual listening sessions will be held (all times Pacific Standard Time):

1. Monday December 12, 2022, 12 p.m. to 1 p.m.

2. Wednesday December 14, 2022, 7 a.m. to 8 a.m.

3. Wednesday December 14, 2022, 2 p.m. to 3 p.m.

ADDRESSES: The draft strategy may be downloaded or viewed on the internet at https://sciencecouncil.noaa.gov/Draft-CDR-Strategy. Registration details for the three listening sessions may be found here: https://sciencecouncil.noaa.gov/Draft-CDR-Strategy.

FOR FURTHER INFORMATION CONTACT: Please contact Jessica Cross, 206-526-4314, jessica.cross@noaa.gov.

SUPPLEMENTARY INFORMATION: This draft research strategy was developed by the National Oceanic and Atmospheric Administration (NOAA) Carbon Dioxide Removal Task Force (CDR Task Force), a cross-NOAA interdisciplinary team with relevant expertise in climate and carbon, coastal and open ocean science, aquaculture development, and ocean conservation. In November of 2020, the Task Force was charged by the Senior Research Council of the NOAA Office of Ocean and Atmospheric Research (OAR) with devising a draft portfolio of CDR strategic research needs in support of a broader climate recovery strategy pursuant to Sect. 214 and 216 of White House Executive Order No. 14008, 86 FR 7619, which was endorsed by the NOAA Science Council in January 2022. This document also contains information relevant to White House memo M-21-32 “Multi-Agency Research and Development Priorities for the FY 2023 Budget.”

These listening sessions are being held to gain input from NOAA stakeholders on the agency's potential role in the emerging field of CDR research, as outlined in this draft research strategy.

Public comment is invited on the draft research strategy, with particular attention to surveying the document for accuracy and completeness, identifying key gaps, and providing feedback on the agency-described priorities. In addition, public comments may address the following questions: In what ways does CDR research intersect with NOAA's existing mission? Does the strategy accurately reflect NOAA's full potential in this space? How can NOAA dovetail its CDR efforts with the mission and work of other existing agencies as part of a whole-of-government approach to carbon removal research and climate mitigation? Speakers will have up to two minutes each to make a comment. As many speakers will be accommodated as the scheduled time allows.

Requests for special accommodations may be directed to jessica.cross@noaa.gov no later than three business days prior to the listening session.

NOAA staff will facilitate the meeting, which will be recorded (audio only) for use by the Task Force. Participants will be provided a Privacy Act Statement at the time of the listening session. Moderators will manage the discussion and order of remarks.

David Holst,
Chief Financial Officer and Administrative Officer, Office of Oceanic and Atmospheric Research, National Oceanic and Atmospheric Administration.

[FR Doc. 2022-26860 Filed 12-9-22; 8:45 am]

BILLING CODE 3510-KD-P